DEPARTMENT OF COMMERCE

National Oceanic and Atmospheric Administration

50 CFR Part 679

[Docket No. 010313063-1297-02; I.D. 121200A]

RIN 0648-AO20

Fisheries of the Exclusive Economic Zone off Alaska; Revisions to Recordkeeping and Reporting Requirements

AGENCY: National Marine Fisheries Service (NMFS), National Oceanic and Atmospheric Administration (NOAA), Commerce.

ACTION: Final rule; correction.

SUMMARY: This document contains corrections to the final rule that was published in the Federal Register on January 28, 2002 (67 FR 4100), which revised certain recordkeeping and reporting (R&R) requirements for groundfish fisheries in the Exclusive Economic Zone off Alaska. This action is necessary to correct errors and omissions that occurred in the final rule.

DATES: Effective May 1, 2002.

FOR FURTHER INFORMATION CONTACT: Patsy A. Bearden, 907-586-7008.

SUPPLEMENTARY INFORMATION:

Background

A final rule was published in the Federal Register on January 28, 2002 (67 FR 4100) (R&R rule) to revise certain provisions of the recordkeeping and reporting (R&R) requirements for groundfish fisheries in the Exclusive Economic Zone off Alaska. This rule makes minor corrections to that final rule and corrects errors caused by conflicts with the Steller Sea Lion Emergency Rule (67 FR 956, January 8, 2002) (SSL Rule). Specifically, some paragraphs are redesignated for consistency between the SSL Rule and the R&R final rule; Table 9 is republished to reflect VMS changes made in the SSL rule; the footnote numbers in Table 10 are correctly sequenced; and Table 11 is republished to reflect changes to groundfish species group descriptions made in the 2002 Harvest Specifications (67 FR 956, January 8, 2002).

Classification

The Assistant Administrator for Fisheries, NOAA, finds good cause to waive the requirement to provide prior notice and opportunity for public comment under the authority set forth at 5 U.S.C. 553(b)(3)(B). Rationale for this finding is that prior notice and comment are unnecessary because the terms this action changes will have no substantive effect on the regulated public. This action does not substantively alter the regulations. The changes are considered to be minor technical amendments that involve little exercise of agency discretion. Further, prior notice and comment would be contrary to the public interest because it would prolong the inaccurate language that currently exists in the regulations. Therefore, the Assistant Administrator for Fisheries, NOAA, waives the 30-day delay in effective date under 5 U.S.C. 553(d).

Need for Corrections

The final rule, FR Doc. 02-1875, published in the issue of January 28, 2002 (67 FR 4100), is corrected as follows:

Corrections to Tables
What is the correction? | Why is the correction necessary?
On page 4142, Table 9, last line is corrected by removing “Atka mackerel or AFA pollock” and adding in its place “Atka mackerel, pollock, or Pacific cod”. | VMS requirements were established in the SSL final rule for pollock, Pacific cod, and Atka mackerel. This change to Table 9 was inadvertently omitted from the R&R rule and is corrected.
On pages 4143 through 4145, Table 10 is corrected by removing the incorrect table and adding in its place a correct version. | In the final rule, target species descriptions were moved from the temporary annual specifications to the footnotes of Table 10 to this part. The basis species are reordered by species code number in numerical order; as a result the footnote numbers are revised for correct sequencing.
On page 4146, Table 11 is corrected by removing the incorrect table and adding in its place a correct version. | In the final rule, target species descriptions were moved from the temporary annual specifications to the footnotes of Tables 10 and 11 to this part. An outdated version of Table 11 inadvertently was published. The basis species are reordered by species code number in numerical order; as a result the footnote numbers are revised. In the first column, “Shortaker/Rougheye” is replaced with “Shortraker/rougheye” and the incorrect code (171) is replaced with (152/151). In addition, Table 11 is revised to reflect changes made in the 2002 Harvest Specifications (67 FR 956, January 8, 2002).
| Footnote 1 is redesignated as footnote 2, and revised to read “Other flatfish includes all flatfish species, except for Pacific halibut (a prohibited species), flathead sole, Greenland turbot, rock sole, yellowfin sole, Alaska plaice, and arrowtooth flounder.” Alaska plaice is removed from “other flatfish” and becomes a unique category. A new column entitled “Alaska plaice” is added with the same values as “other flatfish”. Footnote 2 is redesignated as footnote 6 and revised by removing “except in the Aleutian Islands Subarea where shortraker and rougheye rockfish is a separate category” and adding in its place “except shortraker and rougheye rockfish.” Shortraker/rougheye rockfish are now managed in both the BS and the AI rather than just the AI, so the limitation to AI subarea is removed. Footnote 3 is redesignated as footnote 7 and revised by removing “Table 1” and adding in its place “Table 2”. Footnote 4 is redesignated as footnote 5. Footnote 5 is redesignated as footnote 1. Footnote 6 is redesignated as footnote 3 and revised by removing “sharpchin,”. Sharpchin rockfish is now included in “other rockfish”. Footnote 7 is removed. Footnote 8 is redesignated as footnote 4 and revised by removing “as defined at § 679.2” and replacing it with “as defined in Table 2 to this part.”

Correction to Amendatory Instruction Paragraphs
What is the correction? | Why is the the correction necessary?
On page 4107, in the third column, amendatory instruction 3, line 2 is corrected by removing “(a)(6)” and adding in its place “(a)(7)”. | The redesignation of paragraph 679.4(a)(7) was inadvertently omitted from instruction paragraph 3.
On page 4107, in the third column, amendatory instruction 3, line 3 is corrected by replacing “(a)(8)” and adding in its place “(a)(9)”. |
On page 4108, third column, amendatory instruction 4, 4th line is corrected by removing “(l)(7)(i)(C)(4)(i)” and adding in its place “(l)(7)(ii)(C)(4)(i)”. | A typographic error is corrected in instruction paragraph 4.

Corrections Due to Conflict With SSL Rule
What is the correction? | Why is the the correction necessary?
Corrections due to conflicts with SSL rule On page 4108, second column, following paragraph (b)(5)(iv) and before the asterisks, add the following: “(v) Signature. The owner or agent of the owner of the vessel must sign and date the application. If the owner is a company, the agent of the owner must sign and date the application.” “(vi) (Applicable through July 8, 2002) If the vessel will be using pot, hook-and-line, or trawl gear in the directed fisheries for pollock, Atka mackerel or Pacific cod in the GOA or in the BSAI. (vii) (Applicable through July 8, 2002) If the vessel owner will be fishing in the harvest limit area in Statistical Areas 542 or 543 in the directed fishery for Atka mackerel.” | A timing conflict between the R&R final rule (67 FR 4100, 1-28-02) and SSL emergency rule (67 FR 956, 1-8-02) resulted in loss of regulatory text because the two documents final rule (67 FR 4100, 1-28-02) and the SSL emergency rule (67 FR 956, 1-8-02) were prepared independently and were not being coordinated; in the confusion resulting from those two documents revising the same paragraph in the same regulation at the same time, paragraphs § 679.4(b)(5)(v), § 679.4(b)(5)(iv)(E) and § 679.4(b)(5)(iv)(F) were removed. Because the erroneous mistake inadvertently deleted paragraphs that should not have been deleted, the paragraphs had to be added to restore them to the regulations. This correction adds the previously deleted text as paragraphs § 679.4(b)(5)(v), § 679.4((b)(5)(vi), and § 679.4(b)(5)(vii).
On page 4132, first column, 8th full paragraph, insert after line 5: “(4) (Applicable through July 8, 2002) Indicate the intended target species.” | The SSL rule added a paragraph (n)(2)(iii)(A)(4). The R&R rule reorganized paragraph (n)(2)(iii) and the new paragraph (A)(4) was inadvertently omitted. This error is corrected by redesignating and adding paragraph 679.5(n)(iii)(B)(4).

Miscellaneous Corrections
What is the correction? | Why is the the correction necessary?
On page 4107, second column, 3rd paragraph, 4th line, starting with “Sablefish (black cod)” is corrected by removing “679.31(b)” and adding in its place “679.21(b)(5)”. | Correction of a typographic error in the definition of “Sablefish (black cod).” The cross reference was printed incorrectly.
On page 4112, the second row of in-text table, line 3 is corrected by removing “0≥” and adding in its place “0”. | Correction of a typographic error in paragraph 679.5(a)(7)(iv)(C)(7).
On page 4123, the fourth row of in-text table, third column, 3rd line is corrected by adding “(if available)” after the word “name”. | When completing a PTR, the name and address of the transporting agent supplies the necessary information to verify shipments. The name of the vessel transporting the van is not always known at the time the PTR is completed. A phrase to this effect was inadvertently omitted at 679.5(g)(4)(ii)(C)(33)(i).
On page 4129, the first column, 15th full paragraph, 5th row is corrected by removing “(in pounds)” and adding in its place “(in pounds or to the nearest thousandth of a metric ton)”. | When completing the IFQ landing report on the ATM, the software program asks whether weight is reported in pounds or metric tons. If metric tons, the calculation is made to the nearest thousandth of a metric ton. This was inadvertently omitted from 679.5(l)(2)(vi)(J)(1) and is corrected here.
On page 4133, the third column, 4th full paragraph after in-text table, 3rd and 4th lines are corrected by removing: “A CDQ or IFQ account will be debited as indicated in Table 3 to this part.”. | Paragraph 679.42(c)(2)is corrected by removing the last sentence of the paragraph, which is outdated language and should be removed. Table 3 to this part does not refer to CDQ or IFQ debits.

On pages 4149 through 4161, the replacement table is corrected as follows:
What is the correction? | Why is the the correction necessary?
Revise definition of “area/species endorsement.” | Area/species endorsement definition, paragraphs (1) through (7). The definition of “area/species endorsement” on page 4106 was revised in the R&R final rule to refer the reader to Figures 16 and 17 for further information. This definition revision satisfies the need for a cross reference to the figures. This definition revision supercedes the need to make the changes that were indicated in the replacement table for its subparagraphs. In order to correct this, the instructions remove mention of the figures.
Delete the extra word “bycatch” in the definition of “Authorized distributor” on page 4150. | Authorized distributor definition on page 4150 of the R&R final rule. A global change was made in the R&R final rule to change the term “bycatch” under certain conditions to read “incidental catch.” The definition for “Authorized distributor” was affected by that change but the replacement table contained a typographical error that made the replacement incorrect. The error is corrected.
Remove cross references to the Annual Harvest Specifications and add a reference to Tables 10 and 11. | Target species definitions. A global change was made in the R&R final rule to change the cross reference to target species descriptions formerly described in the Annual Harvest Specifications to the footnotes of Tables 10 and 11 to this part which present incidental catch retainable percentages by target species. The change in cross reference was inadvertently omitted from these definitions in § 679.2: Deep water flatfish; other flatfish; other red rockfish; other rockfish; other species; and shallow water flatfish.
Change “experimental fishing” to “exempted fishing” and change “experimental fisheries” to “exempted fisheries”. | Experimental vs exempted. A global change was made to replace “experimental fishing” or “experimental fisheries” with “exempted fishing” or “exempted fisheries,” respectively. Some of the terms were inadvertently not replaced and are corrected here.
Change “Central Regulatory Area of the GOA” or “Central Area of the Gulf of Alaska” to “Central GOA regulatory area”. | Central GOA regulatory area. A global change was made in the R&R final rule to change “Central Regulatory Area of the GOA” or “Central Area of the Gulf of Alaska” with the words “Central GOA regulatory area”. Some of the terms were inadvertently not replaced and are corrected here.
Change “Western Regulatory Area of the GOA” or “Western Area of the Gulf of Alaska” to “Western GOA regulatory area”. | Western GOA regulatory area. A global change was made in the R&R final rule to change “Western Regulatory Area of the GOA” or “Western Area of the Gulf of Alaska” with the words “Western GOA regulatory area”. Some of the terms were inadvertently not replaced and are corrected here.

Correction

As published, the final regulations (67 FR 4100, January 28, 2002) contain errors which may be misleading and need to be clarified.

1. On page 4107,

Second column, under the definition “Sablefish (black cod)”, “679.31(b)” is corrected to read “679.21(b)(5).”

Third column, in amendatory instruction 3, line 1, remove the text “paragraphs (a)(1) through (a)(6) are redesignated as paragraphs (a)(3) through (a)(8),” and add in its place the text “paragraphs (a)(1) through (a)(7) are redesignated as paragraphs (a)(3) through (a)(9),”.

2. On page 4108,

In the second column, following paragraph (b)(5)(iv) and before the asterisks, add the following:

“(v) Signature. The owner or agent of the owner of the vessel must sign and date the application. If the owner is a company, the agent of the owner must sign and date the application.

(vi) (Applicable through July 8, 2002) If the vessel will be using pot, hook-and-line, or trawl gear in the directed fisheries for pollock, Atka mackerel or Pacific cod in the GOA or in the BSAI.

(vii) (Applicable through July 8, 2002) If the vessel owner will be fishing in the harvest limit area in Statistical Areas 542 or 543 in the directed fishery for Atka mackerel.”

In the third column, amendatory instruction 4, line 4, “(l)(7)(i)(C)(4)(i)” is corrected to read “(l)(7)(ii)(C)(4)(i)”.

3. On page 4112, first column of the table, second entry, “0≥” is corrected to read “0”.

4. On page 4123, paragraph (3), third column, second row, “Name of” is corrected to read “Name (if available) of”.

5. On page 4129, the first column, paragraph (vi)(J)(1), line 5, “(in pounds)” is corrected to read “(in pounds or to the nearest thousandth of a metric ton)”.

6. On page 4132, first column, after paragraph (iii)(B)(3) paragraph (iii)(B)(4) is added to read as follows:

“(4) (Applicable through July 8, 2002) Indicate the intended target species.”

7. On page 4133, the third column, in § 679.42(c)(2) remove the second sentence.

BILLING CODE 3510-22-S

8. On page 4142, Table 9 to Part 679 is replaced with a corrected version.

9. On page 4143, Table 10 to Part 679 is replaced with a corrected version.

10. On page 4146, Table 11 to Part 679 is replaced with a corrected version.

11. On page 4149, the Remove-and-Add table is corrected by adding the corrected table as follows:

Dated: April 25, 2002.
William T. Hogarth,
Assistant Administrator for Fisheries, National Marine Fisheries Service.

[FR Doc. 02-10949 Filed 5-1-02; 8:45 am]

BILLING CODE 3510-22-C